NUCLEAR REGULATORY COMMISSION

[Docket No. 50-82]

Wolf Creek Nuclear Operating Corporation; Notice of Withdrawal of Application for Amendment to Facility Operating License

The U.S. Nuclear Regulatory Commission (the Commission) has granted the request of Wolf Creek Nuclear Operating Corporation (the licensee) to withdraw its application dated February 21, 2006, with supplemental letters dated May 3 and September 27, 2007, and January 25, 2008, for proposed amendment to Facility Operating License No. NPF-42 for the Wolf Creek Generating Station, located in Coffey County, Kansas.

The proposed amendment would have revised Technical Specification (TS) 5.5.9, “Steam Generator (SG) Tube Surveillance Program,” to exclude portions of the steam generator tube below the top of the tubesheet from periodic tube inspections based on the application of structural analysis and leak rate evaluation results to re-define the primary-to-secondary pressure boundary. In addition, there were also proposed changes to add new reporting requirements to TS 5.6.10, “Steam Generator Tube Inspection Report.”

The Commission had previously issued a Notice of Consideration of Issuance of Amendment, on the above proposed amendment application, that was published in the Federal Register on April 11, 2006 (71 FR 18377). However, by letter dated February 14, 2008, the licensee withdrew the proposed amendment.

For further details with respect to this action, see the application for amendment dated February 21, 2006, with supplemental letters dated May 3 and September 27, 2007, and January 25, 2008, and the licensee's letter dated February 14, 2008, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 28th day of February 2008.
For the Nuclear Regulatory Commission.
Balwant K. Singal,
Senior Project Manager, Plant Licensing Branch IV, Division of Operating Reactor Licensing, Office of Nuclear Reactor Regulation.

[FR Doc. E8-4687 Filed 3-7-08; 8:45 am]

BILLING CODE 7590-01-P